ENVIRONMENTAL PROTECTION AGENCY

40 CFR Part 82

[EPA-HQ-OAR-2014-0198; FRL-9916-91-OAR]

RIN 2060-AS18

Protection of Stratospheric Ozone: Change of Listing Status for Certain Substitutes Under the Significant New Alternatives Policy Program

AGENCY: Environmental Protection Agency (EPA).

ACTION: Notice of proposed rulemaking; extension of public comment period.

SUMMARY: The Environmental Protection Agency (EPA) is announcing that the period for providing public comments on the August 6, 2014, proposed “Protection of Stratospheric Ozone: Change of Listing Status for Certain Substitutes Under the Significant New Alternatives Policy Program” is being extended by 14 days.

DATES: Comments. The public comment period for the proposed rule published August 6, 2014, (79 FR 46126) is being extended by 14 days to October 20, 2014, in order to provide the public additional time to submit comments and supporting information.

ADDRESSES: Comments. Written comments on the proposed rule may be submitted to the EPA electronically, by mail, by facsimile or through hand delivery/courier. Please refer to the proposal (79 FR 46126) for the addresses and detailed instructions.

Docket. Publicly available documents relevant to this action are available for public inspection either electronically at http://www.regulations.gov or in hard copy at the EPA Docket Center, (EPA/DC) EPA West, Room 3334, 1301 Constitution Ave. NW., Washington, DC. The Public Reading Room is open from 8:30 a.m. to 4:30 p.m., Monday through Friday, excluding legal holidays. A reasonable fee may be charged for copying. The EPA has established the official public docket No. EPA-HQ-OAR-2014-0198.

Worldwide Web. The EPA Web site containing information for this rulemaking is: http://www.epa.gov/ozone/snap/regulations.html.

FOR FURTHER INFORMATION CONTACT: Rebecca von dem Hagen, Stratospheric Protection Division, Office of Atmospheric Programs, Mail Code 6205T, Environmental Protection Agency, 1200 Pennsylvania Ave. NW., Washington, DC 20460; telephone number (202) 343-9445; fax number (202) 343-2338, email address: vondemhagen.rebecca@epa.gov. Notices and rulemakings under EPA's SNAP program are available on EPA's Stratospheric Ozone Web site at http://www.epa.gov/ozone/snap/regulations.html.

SUPPLEMENTARY INFORMATION:

Comment Period

The EPA is extending the public comment period for an additional 14 days. The public comment period will end on October 20, 2014, rather than October 6, 2014. This will provide the public additional time to review and comment on all of the information available, including the proposed rule and other materials in the docket.

List of Subjects in 40 CFR Part 82

Environmental protection, Administrative practice and procedure, Air pollution control, Incorporation by reference, Recycling, Reporting and recordkeeping requirements, Stratospheric ozone layer.

Dated: September 12, 2014.
Janet G. McCabe,
Assistant Administrator, Office of Air and Radiation.

[FR Doc. 2014-22382 Filed 9-18-14; 8:45 am]

BILLING CODE 6560-50-P